CONSUMER PRODUCT SAFETY COMMISSION

[Docket No. CPSC-2010-0056]

Agency Information Collection Activities; Extension of Approval of Information Collection; Safety Standard for Bicycle Helmets

AGENCY: Consumer Product Safety Commission.

ACTION: Notice of information collection; request for comment.

SUMMARY: As required by the Paperwork Reduction Act of 1995, the Consumer Product Safety Commission (CPSC or Commission) announces that the Commission has submitted to the Office of Management and Budget (OMB) a request for extension of approval for a collection of information relating to the Safety Standard for Bicycle Helmets. OMB previously approved the collection of information under Control Number 3041-0127. OMB's most recent extension of approval will expire on January 31, 2024. On November 15, 2023, CPSC published a notice in the Federal Register to announce the agency's intention to seek extension of approval of the collection of information. The Commission received no comments. Therefore, by publication of this notice, the Commission announces that CPSC has submitted to the OMB a request for extension of approval of that collection of information.

DATES: Submit comments on the collection of information by February 26, 2024.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at www.regulations.gov, under Docket No. CPSC-2010-0056.

FOR FURTHER INFORMATION CONTACT: Cynthia Gillham, Consumer Product Safety Commission, 4330 East West Highway, Bethesda, MD 20814; (301) 504-7791, or by email to: pra@cpsc.gov.

SUPPLEMENTARY INFORMATION: CPSC seeks to extend the following collection of information:

Title: Safety Standard for Bicycle Helmets.

OMB Number: 3041-0127.

Type of Review: Extension of collection.

Frequency of Response: On occasion.

Affected Public: Manufacturers and importers of bicycle helmets.

Estimated Number of Respondents: The Commission estimates that 38 manufacturers and importers will issue certificates on an estimated total of 200 models annually, including both older models and new models.

Estimated Time per Response: The Commission estimates that manufacturers and importers will require four hours per model for recordkeeping and certification activities each year.

Total Estimated Annual Burden: CPSC estimates that manufacturers and importers will conduct recordkeeping and reporting activities for a total of 200 models, and that a total of four hours will be required per model. As a result, CPSC estimates that the total annual burden of this collection is 800 hours. The annualized cost to respondents for the information collection is $26,944 (800 hours x $33.68/hour), as estimated from total compensation data available from the U.S. Bureau of Labor Statistics.¹

¹ Total hourly compensation for office and administrative support occupations in goods-producing industries is estimated by the U.S. Bureau of Labor Statistics to be $33.68: Employer Costs for Employee Compensation, March 2023, Table 4: (https://www.bls.gov/news.release/archives/ecec_06162023.pdf).

General Description of Collection: The Commission's safety standard for bicycle helmets (16 CFR part 1203) includes requirements for labeling and instructions. The standard also requires that manufacturers and importers of bicycle helmets subject to the standard issue certificates of compliance based on a reasonable testing program. Every person issuing certificates of compliance must maintain records of their testing so the Commission can verify that the testing was conducted properly. Respondents must comply with the requirements in 16 CFR part 1203 for labeling and instructions, testing, certification, and recordkeeping.

Alberta E. Mills,
Secretary, Consumer Product Safety Commission.

[FR Doc. 2024-01374 Filed 1-24-24; 8:45 am]

BILLING CODE 6355-01-P